DEPARTMENT OF STATE

[Public Notice: 11941]

Overseas Schools Advisory Council Notice of Meeting

The Department of State's Overseas Schools Advisory Council will hold its Winter Committee Meeting on Thursday, January 26, 2022, from 9:00 a.m. until approximately 12:00 p.m. Advisory board members will meet in-person, unless local conditions dictate otherwise, in which case members will participate exclusively online. To limit exposure, the meeting is open for the public to participate virtually only.

The Overseas Schools Advisory Council works closely with the U.S. business community on improving American-sponsored schools overseas that are assisted by the Department of State and attended by U.S. government employee dependents, and the children of employees of U.S. corporations and foundations abroad.

This meeting will address issues related to the support provided by the Overseas Schools Advisory Council to American-sponsored overseas schools. The Regional Education Officers in the Office of Overseas Schools will present on the initiatives in the American-sponsored overseas schools.

Public members may attend the meeting virtually, subject to the instructions of the Chair. Those interested in participating virtually should RSVP prior to January 26, 2022 to:

Mr. Mark Ulfers, Office of Overseas Schools, Department of State Tel: 202-261-8200, Email: OverseasSchools@state.gov

The Department will send instructions for virtual participation to those that RSVP. Requests for reasonable accommodation should be sent prior to January 26. Requests sent after that date will be considered but may not be possible to fulfill.

Mark Ulfers,
Executive Secretary, Overseas Schools Advisory Council.

[FR Doc. 2022-27414 Filed 12-16-22; 8:45 am]

BILLING CODE 4710-24-P